DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before April 19, 2007.

ADDRESSES: Written data or comments should be submitted to the U.S. Fish and Wildlife Service, Endangered Species Program Manager, California/Nevada Operations Office (CNO), 2800 Cottage Way, Room W-2606, Sacramento, California, 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, at the above CNO address, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests.

Permit No. TE-097516

Applicant: Thomas Ryan, Pasadena, California

The applicant requests an amendment to take (capture, handle, and band) the California least tern (Sternula antillarum browni), the southwestern willow flycatcher (Empidonax traillii extimus), and the least Bell's vireo (Vireo bellii pusillus); and to take (harass by survey) the Yuma clapper rail (Rallus longirostris yumanensis) in conjunction with monitoring and other life history studies throughout the range of each species in California, Arizona, and Nevada for the purpose of enhancing their survival.

Permit No. TE-142437

Applicant: Melanie Gogol-Prokurat, Davis, California

The permittee requests a permit to remove/reduce to possession Calystegia stebbinsii (Stebbin's morning glory), Ceanothus roderickii (Pine Hill ceanothus), and Fremontodendron decumbens (= Fremontodendron californicum ssp. decumbens, Pine Hill flannelbush) from Federal lands in conjunction with scientific studies in El Dorado and Nevada County, California, for the purpose of enhancing their survival.

Permit No. TE-142436

Applicant: Eric Renfro, Redondo Beach, California

The applicant requests a permit to take (survey by pursuit) the Delhi Sands flower-loving fly (Rhaphiomidas terminatus abdominalis) in conjunction with surveys throughout the range of the species in San Bernardino and Riverside Counties, California for the purpose of enhancing its survival.

Permit No. TE-126141

Applicant: Craig Stockwell, Fargo, North Dakota

The applicant requests a permit to take (sacrifice) the Mohave tui chub (Siphateles bicolor mohavensis) in conjunction with ecological studies in San Bernardino and Kern Counties, California, for the purpose of enhancing its survival.

Permit No. TE-071216

Applicant: Reed Smith, Ventura, California

The applicant requests an amendment to take (harass by survey, locate, and monitor nests) the California least tern (Sterna antillarum browni) in conjunction with monitoring and other life history studies in Ventura County, California for the purpose of enhancing its survival.

Permit No. TE-071216

Applicant: Derek S. Smith, Discovery Bay, California

The permittee requests a permit to take (harass by survey, capture, and release) the California tiger salamander (Ambystoma californiense) in conjunction with surveys throughout the range of the species in California for the purpose of enhancing its survival.

Permit No. TE-052745

Applicant: Pierre Fidenci, San Francisco, California

The permittee requests an amendment to take (harass by survey, capture, and release) the California tiger salamander (Ambystoma californiense) in conjunction with surveys throughout the range of the species in California for the purpose of enhancing its survival.

Permit No. TE-062907

Applicant: Andrew M. Forde, Camarillo, California

The applicant requests a permit to take (capture, and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-795934

Applicant: Edward C. Beedy, Nevada City, California

The applicant requests a permit to take (harass by survey) the Southwestern willow flycatcher (Empidonax traillii extimus) in conjunction with surveys throughout the range of the species in California for the purpose of enhancing its survival.

Permit No. TE-098709

Applicant: William D. Gendron, Pomona, California

The applicant requests an amendment to take (survey by pursuit) the Delhi Sands flower-loving fly (Rhaphiomidas terminatus abdominalis) in conjunction with surveys throughout the range of the species in San Bernardino and Riverside Counties, California for the purpose of enhancing its survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: February 7, 2007.
Michael Fris,
Acting Manager, California/Nevada Operations Office, U.S. Fish and Wildlife Service.

[FR Doc. E7-5008 Filed 3-19-07; 8:45 am]

BILLING CODE 4310-55-P